DEPARTMENT OF TRANSPORTATION

Federal Aviation Administration

14 CFR Part 97

[Docket No. 30765; Amdt. No. 3410]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective February 3, 2011. The compliance date for each SIAP, associated Takeoff Minimums, and ODP is specified in the amendatory provisions.

The incorporation by reference of certain publications listed in the regulations is approved by the Director of the Federal Register as of February 3, 2011.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (air).

Issued in Washington, DC on January 21, 2011.
John McGraw,
Deputy Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 10 MAR 2011

Hayward, CA, Hayward Executive, VOR OR GPS-A, Amdt 6C, CANCELLED

Sacramento, CA, Sacramento Mather, RNAV (GPS) RWY 22L, Amdt 1A

San Francisco, CA, San Francisco Intl, VOR RWY 19L, Amdt 9

San Francisco, CA, San Francisco Intl, VOR-B, Amdt 6

Washington, DC, Ronald Reagan Washington National, Takeoff Minimums and Obstacle DP, Amdt 6

Kalaupapa, HI, Kalaupapa, KALAUPAPA ONE Graphic DP

Kalaupapa, HI, Kalaupapa, RNAV (GPS)-A, Orig

Kalaupapa, HI, Kalaupapa, Takeoff Minimums and Obstacle DP, Orig

Anderson, IN, Anderson Muni-Darlington Field, Takeoff Minimums and Obstacle DP, Amdt 1

Winchester, IN, Randolph County, Takeoff Minimums and Obstacle DP, Orig

Shreveport, LA, Shreveport Rgnl, RADAR-1, Amdt 4

Tallulah-Vicksburg, MS, LA, Vicksburg Tallulah Rgnl, LOC RWY 36, Amdt 3

Bedford, MA, Laurence G. Hanscom Field, Takeoff Minimums and Obstacle DP, Amdt 5

Beverly, MA, Beverly Muni, Takeoff Minimums and Obstacle DP, Amdt 3

Lawrence, MA, Lawrence Muni, Takeoff Minimums and Obstacle DP, Amdt 4

Norwood, MA, Norwood Memorial, Takeoff Minimums and Obstacle DP, Amdt 6

Frankfort, MI, Frankfort Dow Memorial Field, Takeoff Minimums and Obstacle DP, Amdt 3

South Haven, MI, South Haven Area Rgnl, Takeoff Minimums and Obstacle DP, Amdt 3

Caledonia, MN, Houston County, GPS RWY 31, Orig, CANCELLED

Branson, MO, M. Graham Clark-Taney County, RNAV (GPS) RWY 12, Orig

Branson, MO, M. Graham Clark-Taney County, RNAV (GPS) RWY 30, Orig

Branson, MO, M. Graham Clark-Taney County, Takeoff Minimums and Obstacle DP, Amdt 2

Point Lookout, MO, M. Graham Clark, GPS RWY 11, Orig-C, CANCELLED

Point Lookout, MO, M. Graham Clark, VOR/DME RNAV OR GPS RWY 29, Amdt 2B, CANCELLED

Potosi, MO, Washington County, Takeoff Minimums and Obstacle DP, Amdt 1

Hattiesburg, MS, Hattiesburg Bobby L Chain Muni, RNAV (GPS) Y RWY 13, Amdt 2

Hattiesburg, MS, Hattiesburg Bobby L Chain Muni, RNAV (GPS) Z RWY 13, Amdt 1

Wadesboro, NC, Anson County-Jeff Cloud Field, ILS OR LOC RWY 34, Orig

Wadesboro, NC, Anson County-Jeff Cloud Field, RNAV (GPS) RWY 16, Amdt 1

Wadesboro, NC, Anson County-Jeff Cloud Field, RNAV (GPS) RWY 34, Amdt 2

Wadesboro, NC, Anson County-Jeff Cloud Field, Takeoff Minimums and Obstacle DP, Amdt 2

Berlin, NH, Berlin Rgnl, Takeoff Minimums and Obstacle DP, Amdt 1

Berlin, NH, Berlin Rgnl, VOR/DME RWY 18, Amdt 2

Blairstown, NJ, Blairstown, RNAV (GPS) RWY 25, Amdt 1

Blairstown, NJ, Blairstown, Takeoff Minimums and Obstacle DP, Amdt 2

Ticonderoga, NY, Ticonderoga Muni, RNAV (GPS) RWY 2, Amdt 1

Ticonderoga, NY, Ticonderoga Muni, RNAV (GPS) RWY 20, Amdt 1

Columbus, OH, Ohio State University, GPS RWY 27L, Amdt 1A, CANCELLED

Columbus, OH, Ohio State University, NDB RWY 9R, Amdt 3

Columbus, OH, Ohio State University, RNAV (GPS) RWY 9R, Amdt 1

Columbus, OH, Ohio State University, RNAV (GPS) RWY 27L, Orig

Columbus, OH, Ohio State University, Takeoff Minimums and Obstacle DP, Orig

Ardmore, OK, Ardmore Downtown Executive, Takeoff Minimums and Obstacle DP, Amdt 3

Mangum, OK, Scott Field, Takeoff Minimums and Obstacle DP, Orig

Sallisaw, OK, Sallisaw Muni, Takeoff Minimums and Obstacle DP, Amdt 2

East Stroudsburg, PA, Stroudsburg-Pocono, Takeoff Minimums and Obstacle DP, Amdt 1

Aiken, SC, Aiken Muni, LOC RWY 7, Orig

Childress, TX, Childress Muni, Takeoff Minimums and Obstacle DP, Amdt 1

Denton, TX, Denton Muni, Takeoff Minimums and Obstacle DP, Amdt 2

Gruver, TX, Cluck Ranch, VOR/DME OR GPS-A, Amdt 1, CANCELLED

Lubbock, TX, Lubbock Preston Smith Intl, ILS OR LOC RWY 17R, Amdt 17A

Bryce Canyon, UT, Bryce Canyon, BRYCE Two Graphic DP

Bryce Canyon, UT, Bryce Canyon, Takeoff Minimums and Obstacle DP, Amdt 1

Salt Lake City, UT, South Valley Rgnl, Takeoff Minimums and Obstacle DP, Amdt 5

Leesburg, VA, Leesburg Executive, ILS OR LOC RWY 17, Orig

Leesburg, VA, Leesburg Executive, LOC RWY 17, Amdt 3, CANCELLED

Richmond, VA, Richmond Intl, ILS OR LOC RWY 2, Amdt 2

Richmond, VA, Richmond Intl, ILS OR LOC RWY 16, Amdt 9

Richmond, VA, Richmond Intl, ILS OR LOC RWY 34, ILS RWY 34 (SA CAT I), ILS RWY 34 (CAT II), ILS RWY 34 (CAT III), Amdt 14

Richmond, VA, Richmond Intl, RNAV (GPS) RWY 2, Amdt 1

Richmond, VA, Richmond Intl, RNAV (GPS) RWY 7, Amdt 1

Richmond, VA, Richmond Intl, RNAV (GPS) RWY 16, Amdt 1

Richmond, VA, Richmond Intl, RNAV (GPS) RWY 20, Amdt 1

Richmond, VA, Richmond Intl, RNAV (GPS) RWY 25, Amdt 1

Richmond, VA, Richmond Intl, RNAV (GPS) RWY 34, Amdt 1

Richmond, VA, Richmond Intl, VOR RWY 2, Amdt 6

On January 10, 2011 (76 FR 06) the FAA published an Amendment in Docket No. 30761; Amdt. No. 3406 to Part 97 of the Federal Aviation Regulations under section 97.33. The following entries, effective 10 February 2011 * * *

Perkin, IL, Perkin Muni, RNAV (GPS) RWY 9, Orig-A

Perkin, IL, Perkin Muni, RNAV (GPS) RWY 27, Orig-A

Perkin, IL, Perkin Muni, VOR-A, Amdt 7A

* * * have incorrect city and airport names. Each item should begin * * *

Pekin, IL, Pekin Muni.

The remaining information remains unchanged.

[FR Doc. 2011-2051 Filed 2-2-11; 8:45 am]

BILLING CODE 4910-13-P